DEPARTMENT OF DEFENSE

Department of the Army

Availability of Non-Exclusive, Exclusive License or Partially Exclusive Licensing of U.S. Patent Concerning Enzyme-Catalyzed Modifications of Macromolecules in Organic Solvents

AGENCY: Department of the Army, DoD.

ACTION: Notice.

SUMMARY: In accordance with 37b CFR 404.6, announcement is made of the availability for licensing of U.S. Patent No. US 6,448,050 B1 entitled “Enzyme-Catalyzed Modification of Macromolecules in Organic Solvents” issued September 10, 2002. This patent has been assigned to the United States Government as represented by the Secretary of the Army.

FOR FURTHER INFORMATION CONTACT: Mr. Robert Rosenkrans at U.S. Army Soldier and Biological Chemical Command, Kansas Street, Natick, MA 01760, Phone; (508) 233-4928 or E-mail: Robert.Rosenkrans@natick.army.mil.

SUPPLEMENTARY INFORMATION: Any license granted shall comply with 35 U.S.C. 209 and 37 CFR part 404.

Luz D. Ortiz,
Army Federal Register Liaison Officer.

[FR Doc. 02-24532 Filed 9-26-02; 8:45 am]

BILLING CODE 3710-08-M